DEPARTMENT OF TRANSPORTATION

Federal Aviation Administration

14 CFR Part 39

[Docket No. FAA-2008-0638; Directorate Identifier 2008-NM-035-AD; Amendment 39-15680; AD 2008-20-01]

RIN 2120-AA64

Airworthiness Directives; Lockheed Model 382, 382B, 382E, 382F, and 382G Series Airplanes

AGENCY: Federal Aviation Administration (FAA), DOT.

ACTION: Final rule.

SUMMARY: We are adopting a new airworthiness directive (AD) for all Lockheed Model 382, 382B, 382E, 382F, and 382G series airplanes. This AD requires revising the FAA-approved maintenance program by incorporating new airworthiness limitations for fuel tank systems to satisfy Special Federal Aviation Regulation No. 88 requirements. This AD also requires the accomplishment of certain fuel system modifications, the initial inspections of certain repetitive fuel system limitations to phase in those inspections, and repair if necessary. This AD results from a design review of the fuel tank systems. We are issuing this AD to prevent the potential for ignition sources inside fuel tanks caused by latent failures, alterations, repairs, or maintenance actions, which, in combination with flammable fuel vapors, could result in a fuel tank explosion and consequent loss of the airplane.

DATES: This AD is effective November 3, 2008.

The Director of the Federal Register approved the incorporation by reference of certain publications listed in this AD as of November 3, 2008.

ADDRESSES: For service information identified in this AD, contact Lockheed Martin Corporation/Lockheed Martin Aeronautics Company, Airworthiness Office, Dept. 6A0M, Zone 0252, Column P-58, 86 S. Cobb Drive, Marietta, Georgia 30063.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Robert A. Bosak, Aerospace Engineer, Propulsion and Services Branch, ACE-118A, FAA, Atlanta Aircraft Certification Office, One Crown Center, 1895 Phoenix Boulevard, Suite 450, Atlanta, Georgia 30349; telephone (770) 703-6094; fax (770) 703-6097.

SUPPLEMENTARY INFORMATION:

Discussion

We issued a notice of proposed rulemaking (NPRM) to amend 14 CFR part 39 to include an airworthiness directive (AD) that would apply to all Lockheed Model 382, 382B, 382E, 382F, and 382G series airplanes. That NPRM was published in the Federal Register on June 13, 2008 (73 FR 33740). That NPRM proposed to require revising the FAA-approved maintenance program by incorporating new airworthiness limitations for fuel tank systems to satisfy Special Federal Aviation Regulation No. 88 (SFAR 88) requirements. That NPRM also proposed to require the accomplishment of certain fuel system modifications, the initial inspections of certain repetitive fuel system limitations to phase in those inspections, and repair if necessary.

Actions Since NPRM Was Issued

Since we issued the NPRM, Lockheed has issued Service Bulletin 382-28-20, Revision 5, dated June 19, 2008, to reflect changes to the required kits. In the NPRM, we referred to Revision 4 of the service bulletin, dated May 21, 2007, as an additional source of service information for installing ground fault interrupters (GFIs) and flame arrestors for protection of the fuel system. The procedures in Revision 5 of the service bulletin are essentially the same as those in Revision 4. Therefore, we have revised Table 1 of this AD to refer to Revision 5 of the service bulletin as the appropriate source of service information for installing the GFIs and flame arrestors.

Comments

We gave the public the opportunity to participate in developing this AD. We considered the comments received from the four commenters.

Requests To Revise Compliance Time

Lynden Air Cargo (LAC) and Safair request that we extend the compliance time from 24 months to 36 months for doing the modification in paragraph (h) of the NPRM. As justification, the commenters state that additional time is needed to procure parts and to accomplish the modifications during a heavy maintenance visit.

We agree to revise the compliance time in paragraph (h) of this AD to 36 months. Extending the compliance time will not adversely affect safety, and it will allow operators to accomplish the modifications, initial inspections, and repairs during regularly scheduled maintenance at a base where special equipment and trained maintenance personnel will be available if necessary.

Request To Revise Paragraph (g)(1) of the NPRM

LAC requests that we revise paragraph (g)(1) of the NPRM to refer to paragraph 2.C.(3)(e) of Lockheed Service Bulletin 382-28-22, Revision 3, dated March 28, 2008, instead of paragraph 2.C.(3)(c). LAC believes that “2.C.(3)(c)” is a typographical error because all of the other critical design configuration control limitation (CDCCL) items referred to in paragraph (g)(1) of the NPRM address wiring practices and resistance measurements.

We agree with LAC's request and have revised paragraph (g)(1) of this AD accordingly. The CDCCLs referred to in paragraphs 2.C.(3)(e), 2.C.(3)(h), 2.C.(4)(a), 2.C.(5)(c), 2.C.(7)(h), and 2.C.(8) of Lockheed Service Bulletin 382-28-22 are all items that can be accomplished in accordance with Lockheed Service Bulletin 382-28-19, Revision 3, dated November 30, 2006.

Request To Revise the Method of Compliance in Paragraph (g)(1) of the NPRM

LAC requests that we revise paragraph (g)(1) of the NPRM as follows: “* * * do the applicable actions in accordance with the procedures specified in Lockheed Service Bulletin 382-28-19, Revision 3, dated November 30, 2006, or a method approved in accordance with paragraph (k) of this AD.” Paragraph (g)(1) of the NPRM specifies to “* * * do the applicable actions using a method approved in accordance with the procedures specified in paragraph (k) of this AD. Lockheed Service Bulletin 382-28-19, Revision 3, dated November 30, 2006, is one approved method.” LAC states that the language provided in the NPRM could be interpreted to mean that an alternative method of compliance (AMOC) is always required.

We partially agree. We have revised paragraph (g)(1) of this AD to specify doing the “* * * applicable actions in accordance with the Accomplishment Instructions of Lockheed Service Bulletin 382-28-19, Revision 3, dated November 30, 2006.” Under the provisions of paragraph (k) of this AD, we will consider requests for approval of an AMOC, so it is not necessary to restate so in paragraph (g)(1) of this AD. We have also deleted the last sentence of paragraph (g)(1) of the NPRM, which states “Lockheed Service Bulletin 382-28-19, Revision 3, dated November 30, 2006, is one approved method.” We would like to clarify that the original language in the NPRM would not have required operators to always request an AMOC because that last sentence already provided one approved method.

Request To Clarify the Intent of Paragraph (i) of the NPRM

LAC interprets paragraph (i) of the NPRM to mean that the NPRM will not be revised to incorporate revised service bulletins. LAC also interprets that paragraph to mean that approval of any revised service bulletins by the Atlanta Aircraft Certification Office (ACO) constitutes approval for including these revised service bulletins into its fuel system maintenance program.

We infer that LAC requests that we confirm whether LAC's interpretations are correct. We agree that LAC's interpretations of the language in the NPRM are correct. However, we have revised paragraph (i) of this AD by removing reference to the use of a “later revision” of the applicable service information to be consistent with the FAA policy and Office of the Federal Register regulations. We might consider approving the use of a later revision of the service information as an AMOC to this AD, as provided by paragraph (k) of this AD.

Request for Clarification of Compliance With Certain Regulations

LAC asks if compliance with the NPRM constitutes compliance with section 121.1113 of the Federal Aviation Regulations (14 CFR 121.1113). If so, LAC requests that the AD state so. LAC cites 14 CFR 121.1113(f), which states “* * * any later fuel tank system revisions must be submitted to the Principal Inspector for review and approval.” LAC interprets this regulation to mean that, even after the Atlanta ACO has approved a revised service bulletin, LAC would still be required to obtain approval from the principal inspector to incorporate the revised service bulletin into its fuel system maintenance program.

LAC also points out that the preamble of the NPRM states that the NPRM would also allow accomplishing the maintenance program revision in accordance with later revisions of Lockheed Service Bulletin 382-28-22 as an acceptable method of compliance if they are approved by the Manager, Atlanta ACO. LAC interprets the phrase “would also allow” to mean that LAC has the option, after ACO approval, to incorporate the revised service bulletin into its maintenance program, and that it would neither be mandatory, nor could a principal inspector require the incorporation of the revised service bulletin unless this AD was superseded to mandate the revised service bulletin.

Yes, we agree that even after ACO approval of a later revision of the service bulletin, an operator would still be required to obtain approval from the principal inspector before a later FAA-approved service bulletin could be incorporated into its maintenance program. Further, as stated previously, we have removed the reference for using later revisions of the service bulletin approved by the Atlanta ACO. Operators may request approval for the use of later revisions of the service information as an AMOC to this AD, as provided by paragraph (k) of this AD. No change to the AD is necessary in this regard.

Request To Revise Applicability

A commenter, William L. Davis, states that we might have inadvertently omitted certain U.S.-registered Model C-130 airplanes from the applicability of the NPRM. The commenter refers us to Type Certificate Data Sheets A15NM, A30NM, A31NM, A33NM, A34SO, A39CE, A5SO, and TQ3CH. The commenter asks if we intentionally excluded these airplanes from the NPRM.

Yes, we have intentionally excluded the airplanes that the commenter refers to because they are restricted category airplanes, which are not affected by this AD. This AD applies only to Model 382, 382B, 382E, 382F, and 382G series airplanes, which are transport category airplanes. We have not changed the AD in this regard.

Request To Reduce the Estimated Number of Affected Airplanes

Lockheed states that its data show that the number of U.S.-registered airplanes that would be affected by the NPRM is 14.

We infer Lockheed requests that we reduce the estimated number of affected airplanes from 21 to 14 in the Costs of Compliance section of this AD. We disagree because we have researched this issue and determined that this AD applies to 24 U.S.-registered airplanes. Of these airplanes, 14 are active and 10 are inactive. The inactive airplanes need to be included in our estimate to provide for any airplanes that might return to service in the future. Therefore, we have revised our estimate in this AD to 24 airplanes, and we have updated the Estimated Costs table of this AD accordingly.

Request To Revise the Compliance Time in Paragraph (g) of the NPRM

LAC requests that we revise the compliance date in paragraph (g) of the AD from December 16, 2008, to December 17, 2008. LAC points out that, in the Explanation of Compliance Time section of the NPRM, we specified that the compliance date is December 16, 2008, for regulations addressing fuel tank safety issues. However, LAC asserts that the actual date that operators must be in compliance with this AD is December 17, 2008. As justification, LAC cites section 14 CFR 121.1113(c), which states: “After December 16, 2008, no certificate holder may operate an airplane * * * unless the maintenance program for that airplane has been revised to include applicable inspections, procedures, and limitations for fuel tanks systems.”

We disagree with changing the compliance date. “After December 16, 2008” means that operators must revise their maintenance programs to address fuel tank systems on or before December 16, 2008, in order to be in compliance after December 16, 2008. Therefore, the compliance date is December 16, 2008. We have not changed the AD in this regard.

Request To Revise the Compliance Time in Paragraph (h) of the NPRM

Lockheed points out that the compliance time in paragraph (h) of the NPRM appears to conflict with the compliance date of December 16, 2008, for complying with SFAR 88 regulations, as specified in the Explanation of Compliance Time section and in paragraph (g) of the NPRM.

We infer Lockheed requests that we revise the compliance time in paragraph (h) of this AD to December 16, 2008. We disagree because 14 CFR 121.1113(c) requires only that operators revise their maintenance programs to include applicable inspections, procedures, and limitations for fuel tank systems on or before December 16, 2008. Further, to avoid unduly burdening operators, it is necessary to provide a 36-month grace period for accomplishing the modifications, initial inspections, and repairs specified in paragraph (h) of this AD. We have not changed the AD in this regard.

Request To Revise the Wire Separation Requirement

LAC requests that paragraph 2.C.(8)(a)2a of Lockheed Service Bulletin 382-28-19, Revision 3, dated November 30, 2006, be revised to specify that “* * * between FS 245.0 and FS 597.0 (along the wing trailing edge) where wires pass through cutouts in the structure, ½ to 2 inches in separation is permitted between wire bundles.” The service bulletin currently states this separation allowance is between fuselage station (FS) 245.0 and FS 457.0. However, LAC states the “FS 457.0” appears to be an error because the wing trailing edge is at FS 597.0.

We disagree that FS 457.0 should be revised to FS 597.0. We have verified with the Lockheed that FS 457.0 is the correct location. This fuselage station corresponds to the wing root area, which is outside of the pressure vessel and where the wires pass along the wing trailing edge. Lockheed intends to revise the service bulletin to clarify the wire separation requirement and provide additional information. No change to the AD is necessary in this regard.

Request To Provide Installation Instructions for the GFIs and Flame Arrestors

LAC states that Lockheed Service Bulletin 382-28-20, Revision 4, dated May 21, 2007, is an informational and planning service bulletin. LAC also states that the service bulletin does not contain any instructions for installing the GFIs and flame arrestors, and that it instead refers to Installation Kit Drawing 3359620 for those instructions. LAC states that it cannot comment without being able to see the drawing and requests that the drawing is made available. Also, LAC asks what approved data is used for the installation of the kits and who approved it.

We acknowledge LAC's comments. The FAA approved the data for the installation kits through design analysis and testing. The installation was then conformed and tested on a Model 382 series airplane. We have coordinated with Lockheed and it has stated that the installation drawings were made available to LAC the first week of August 2008. Also, Lockheed has stated that it intends to include that information directly in a future revision of Lockheed Service Bulletin 382-28-20. If the service bulletin is revised after issuance of this AD, we may consider approving the use of a later revision of the service information as an AMOC with this AD, as provided by paragraph (k) of this AD. No change to the AD is necessary in this regard.

Request To Standardize Approval Statements

LAC requests that we use the following FAA approval statement in service bulletins: “Approved by FAA Atlanta Certification Office.” LAC states that the approval statements are either inconsistent or non-existent for the service bulletins referenced in the NPRM.

We acknowledge LAC's request. However, this request is best presented to the airplane manufacturer, who develops and includes the applicable approval statement in the service bulletin. No change to the AD is necessary in this regard.

Conclusion

We reviewed the relevant data, considered the comments received, and determined that air safety and the public interest require adopting the AD with the changes described previously. We also determined that these changes will not increase the economic burden on any operator or increase the scope of the AD.

Costs of Compliance

We estimate that this AD affects 24 airplanes of U.S. registry. The following table provides the estimated costs, at an average labor rate of $80 per hour, for U.S. operators to comply with this AD.

Estimated Costs
Action | Work hours | Parts | Cost per product | Number of U.S.-registered airplanes | Fleet cost
Maintenance program revision | 1 | None | $80 | 24 | $1,920
Installation of new, improved fuel dump masts | 12 | $10,288 | 11,248 | 24 | 269,952
Dry bay zonal inspection, inspection and repair of static ground terminals, marking the wiring for the fuel quantity indicating system, initial inspection of lightning and static bonding jumpers | 952 | None | 76,160 | 24 | 1,827,840
Installation of GFIs and flame arrestors | 120 | 115,000 | 124,600 | 24 | 2,990,400
Initial inspection of GFIs and flame arrestors | 8 | None | 640 | 24 | 15,360
Installation of lightning bonding jumpers | 910 | 10,000 | 82,800 | 24 | 1,987,200
Sealant application | 320 | None | 25,600 | 24 | 614,400

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-20-01 Lockheed: Amendment 39-15680. Docket No. FAA-2008-0638; Directorate Identifier 2008-NM-035-AD.

Effective Date

(a) This airworthiness directive (AD) is effective November 3, 2008.

Affected ADs

(b) None.

Applicability

(c) This AD applies to all Lockheed Model 382, 382B, 382E, 382F, and 382G series airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (k) of this AD. The request should include a description of changes to the required inspections that will ensure the continued operational safety of the airplane.

Unsafe Condition

(d) This AD results from a design review of the fuel tank systems. We are issuing this AD to prevent the potential for ignition sources inside fuel tanks caused by latent failures, alterations, repairs, or maintenance actions, which, in combination with flammable fuel vapors, could result in a fuel tank explosion and consequent loss of the airplane.

Compliance

(e) Comply with this AD within the compliance times specified, unless already done.

Service Bulletin Reference

(f) The term “service bulletin,” as used in this AD, means the Accomplishment Instructions of Lockheed Service Bulletin 382-28-22, Revision 3, dated March 28, 2008.

Maintenance Program Revision

(g) Before December 16, 2008, revise the FAA-approved maintenance program to incorporate the fuel system limitations (FSLs) and the critical design configuration control limitations (CDCCLs) specified in the Accomplishment Instructions of the service bulletin; except as provided by paragraphs (g)(1), (g)(2), and (g)(3) of this AD, and except that the modifications and initial inspections specified in Table 1 of this AD must be done at the compliance time specified in paragraph (h) of this AD.

(1) For the CDCCLs specified in paragraphs 2.C.(3)(e), 2.C.(3)(h), 2.C.(4)(a), 2.C.(5)(c), 2.C.(7)(h), and 2.C.(8) of the service bulletin, do the applicable actions in accordance with the Accomplishment Instructions of Lockheed Service Bulletin 382-28-19, Revision 3, dated November 30, 2006.

(2) Where paragraph 2.C.(1)(c) of the service bulletin specifies to change the maintenance program to indicate that repetitive inspections of the lightning and static bonding jumpers must be done in accordance with Lockheed Service Bulletin 382-28-21, instead do the repetitive inspections in accordance with Lockheed Service Bulletin 382-28-19, Revision 3, dated November 30, 2006.

(3) Where the service bulletin specifies to inspect, this AD requires doing a general visual inspection.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Fuel System Modifications, Initial Inspections, and Repair if Necessary

(h) Within 36 months after the effective date of this AD, do the applicable actions specified in Table 1 of this AD, and repair any discrepancy before further flight, in accordance with the service bulletin.

Table 1—Modifications and Initial Inspections
Action | Additional source of service information for accomplishing the action
For airplanes having any serial number prior to 4962: Install new, improved fuel dump masts in accordance with paragraph 2.C.(1)(d) of the service bulletin | Lockheed Service Bulletin 382-28-9, dated May 13, 1983.
Mark the fuel quantity indicating system (FQIS) wires in accordance with paragraphs 2.C.(1)(a)2, 2.C.(4)(b), and 2.C.(4)(c) of the service bulletin | Lockheed Service Bulletin 382-28-19, Revision 3, dated November 30, 2006.
Do the dry bay zonal inspection and inspect the static ground terminals of the fuel system plumbing in accordance with paragraph 2.C.(1)(a) of the service bulletin | Lockheed Service Bulletin 382-28-19, Revision 3, dated November 30, 2006.
Install ground fault interrupters (GFIs) and flame arrestors for protection of the fuel system in accordance with paragraphs 2.C.(1)(b) and 2.C.(7)(c) of the service bulletin | Lockheed Service Bulletin 382-28-20, Revision 5, dated June 19, 2008.
Inspect the GFIs for protection of the fuel system in accordance with paragraph 2.C.(1)(b)1 of the service bulletin | Paragraph 2.C.(2) of the service bulletin.
Install the lightning bonding jumpers (straps) in accordance with paragraphs 2.C.(1)(c) and 2.C.(6)(a) of the service bulletin | Lockheed Service Bulletin 382-28-21, Revision 2, dated November 20, 2006.
Inspect the lightning and static bonding jumpers (straps) in accordance with paragraphs 2.C.(1)(c) of the service bulletin | Lockheed Service Bulletin 382-28-19, Revision 3, dated November 30, 2006.
Apply a certain sealant to the interior of the main wing fuel tanks; and apply a certain sealant to the all external fuel tank nose caps, mid sections, and tail sections; as applicable; in accordance with paragraphs 2.C.(1)(e)1, 2.C.(1)(e)3, and 2.C.(7)(i)1 of the service bulletin | Lockheed Service Bulletin 382-28-24, Revision 1, dated November 5, 2007, including the Errata Notice, dated January 7, 2008.

No Alternative Inspections, Inspection Intervals, or CDCCLs

(i) After accomplishing the actions specified in paragraphs (g) and (h) of this AD, no alternative inspections, inspection intervals, or CDCCLs may be used unless the inspections, intervals, or CDCCLs are approved as an alternative method of compliance in accordance with the procedures specified in paragraph (k) of this AD.

No Reporting Requirement

(j) Although Lockheed Service Bulletin 382-28-19, Revision 3, dated November 30, 2006, specifies to notify Lockheed of any discrepancies found during inspection, this AD does not require that action.

Alternative Methods of Compliance (AMOCs)

(k)(1) The Manager, Atlanta Aircraft Certification Office (ACO), FAA, ATTN: Robert A. Bosak, Aerospace Engineer, Propulsion and Services Branch, ACE-118A, FAA, Atlanta ACO, One Crown Center, 1895 Phoenix Boulevard, Suite 450, Atlanta, Georgia 30349; telephone (770) 703-6094; fax (770) 703-6097; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(l) You must use Lockheed Service Bulletin 382-28-19, Revision 3, dated November 30, 2006; and Lockheed Service Bulletin 382-28-22, Revision 3, dated March 28, 2008; as applicable; to do the actions required by this AD, unless the AD specifies otherwise.

(1) The Director of the Federal Register approved the incorporation by reference of this service information under 5 U.S.C. 552(a) and 1 CFR part 51.

(2) For service information identified in this AD, contact Lockheed Martin Corporation/Lockheed Martin Aeronautics Company, Airworthiness Office, Dept. 6A0M, Zone 0252, Column P-58, 86 S. Cobb Drive, Marietta, Georgia 30063.

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on September 11, 2008.
Michael Kaszycki,
Acting Manager, Transport Airplane Directorate, Aircraft Certification Service.

[FR Doc. E8-22035 Filed 9-26-08; 8:45 am]

BILLING CODE 4910-13-P